FEDERAL TRADE COMMISSION

Granting of Requests for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
November 1, 2019 Thru November 30, 2019
11/01/2019
20200040 | G | Vox Media, Inc.; Wasserstein Family Trust L.L.C.; Vox Media, Inc.
20200049 | G | Bain Capital Fund XII, L.P.; Lite-On Technology Corporation; Bain Capital Fund XII, L.P.
20200102 | G | TPG Partners VII, L.P.; CC Acquisition Co.; TPG Partners VII, L.P.
20200104 | G | Munchener Ruckversicherungs-Gesellschaft AG in Munchen; Next Insurance, Inc.; Munchener Ruckversicherungs-Gesellschaft AG in Munchen.
20200105 | G | LG Maverick Holdings LP; AECOM; LG Maverick Holdings LP.
20200107 | G | Cerberus Institutional Partners VI, L.P.; Graeme R. Hart; Cerberus Institutional Partners VI, L.P.
20200109 | G | Hull Street Energy Partners I, L.P.; General Electric Company; Hull Street Energy Partners I, L.P.
20200110 | G | Hull Street Energy Partners I, L.P.; Enel S.p.A.; Hull Street Energy Partners I, L.P.
20200111 | G | Genpact Limited; Rightpoint Consulting, LLC; Genpact Limited.
20200112 | G | PIH Health, Inc.; Good Samaritan Hospital; PIH Health, Inc.
20200113 | G | American Securities Partners VIII, L.P.; AECOM; American Securities Partners VIII, L.P.
20200117 | G | WH Smith PLC; Brentwood-MRG Investors, LLC; WH Smith PLC.
20200123 | G | Harvest Partners VIII, L.P.; Pamlico Capital III, L.P.; Harvest Partners VIII, L.P.
20200124 | G | Harvest Partners VIII (Parallel), L.P.; Pamlico Capital III, L.P.; Harvest Partners VIII (Parallel), L.P.
20200125 | G | Astorg VII SLP; Nordic Capital VIII Beta, L.P.; Astorg VII SLP.
11/04/2019
20200016 | G | QinetiQ Group plc; Mary Williams; QinetiQ Group plc.
20200072 | G | D.E. Shaw Oculus International Fund; Emerson Electric Co.; D.E. Shaw Oculus International Fund.
20200073 | G | D.E. Shaw Composite Portfolios, L.L.C.; Emerson Electric Co.; D.E. Shaw Composite Portfolios, L.L.C.
20200081 | G | Kelso Investment Associates IX, L.P.; Gowrie Holdings, Inc.; Kelso Investment Associates IX, L.P.
20200098 | G | General Atlantic Partners (Bermuda) IV, L.P.; Zhang Yiming; General Atlantic Partners (Bermuda) IV, L.P.
20200119 | G | Todd L. Boehly; Kennedy-Wilson Holdings, Inc.; Todd L. Boehly.
11/06/2019
20191627 | G | Alphabet Inc.; Looker Data Sciences, Inc.; Alphabet Inc.
11/08/2019
20200121 | G | Teradyne, Inc.; Bradley Palmer; Teradyne, Inc.
20200129 | G | Hess Midstream Partners LP; Hess Corporation; Hess Midstream Partners LP.
20200130 | G | Hess Midstream Partners LP; GIP II Blue Holding Partnership, L.P.; Hess Midstream Partners LP.
20200131 | G | Reyes Holdings, L.L.C.; Mary G. Trichell; Reyes Holdings, L.L.C.
20200132 | G | Carlyle Partners VII, L.P.; THG Acquisition, LLC; Carlyle Partners VII, L.P.
20200137 | G | Providence Equity Partners VIII-A L.P.; RCAF VI AIV I-A, L.P.; Providence Equity Partners VIII-A L.P.
20200138 | G | Chamly Aspen Trust; Lotte Chemical Corporation; Chamly Aspen Trust.
20200141 | G | New Mountain Partners IV, L.P.; Lockheed Martin Corporation; New Mountain Partners IV, L.P.
20200146 | G | AG TCG HC Holdings, LP; Kent Dauten; AG TCG HC Holdings, LP.
20200149 | G | Carlisle Companies Incorporated; Endeavour Capital Fund V, L.P.; Carlisle Companies Incorporated.
20200156 | G | Inception Topco, Inc.; Onica Holdings LLC; Inception Topco, Inc.
20200158 | G | Maurice Pinsonnault; Edgewell Personal Care Company; Maurice Pinsonnault.
11/12/2019
20200116 | G | Surf Ultimate Parent, L.P.; Sophos Group plc; Surf Ultimate Parent, L.P.
20200155 | G | Tech Data Corporation; DLT Investment LLC; Tech Data Corporation.
11/13/2019
20192040 | G | Lehigh Valley Health Network, Inc.; Emil J. Dilorio; Lehigh Valley Health Network, Inc.
20200120 | G | PGGM Cooperatie U.A.; Electricite de France S.A.; PGGM Cooperatie U.A.
20200134 | G | DTE Energy Company; M5 Midstream LLC; DTE Energy Company.
20200135 | G | DTE Energy Company; Indigo Natural Resources LLC; DTE Energy Company.
20200152 | G | One Rock Capital Partners II, LP; Innophos Holdings, Inc.; One Rock Capital Partners II, LP.
20200159 | G | Quantum Energy Partners V, LP; Parsley Energy, Inc.; Quantum Energy Partners V, LP.
20200160 | G | Parsley Energy, Inc.; Quantum Energy Partners V, LP; Parsley Energy, Inc.
20200161 | G | Olympus Growth Fund VII, L.P.; BBH Capital Partners V, L.P.; Olympus Growth Fund VII, L.P.
11/14/2019
20200133 | G | Wendel-Participations SE; Safeguard Parent, Inc.; Wendel-Participations SE.
11/15/2019
20190706 | G | Bristol-Myers Squibb Company; Celgene Corporation; Bristol-Myers Squibb Company.
20200148 | G | The Sisters of Third Order of Saint Francis, Inc.; Little Company of Mary Sisters-USA; The Sisters of Third Order of Saint Francis, Inc.
11/19/2019
20190279 | G | Ares Energy Investors Fund V, L.P.; BP p.l.c.; Ares Energy Investors Fund V, L.P.
11/20/2019
20200136 | G | Signify N.V.; Eaton Corporation plc; Signify N.V.
20200154 | G | EnCap Flatrock Midstream Fund IV, L.P.; GSO Capital Solutions Fund II AIV-2 LP; EnCap Flatrock Midstream Fund IV, L.P.
20200165 | G | K. Rupert Murdoch; Fox Corporation; K. Rupert Murdoch.
20200167 | G | Proofpoint, Inc.; Observe IT Ltd.; Proofpoint, Inc.
20200171 | G | American Securities Partners VIII, L.P.; Rockwood Holding Company LLC; American Securities Partners VIII, L.P.
20200172 | G | Novartis AG; Pliant Therapeutics, Inc.; Novartis AG.
20200175 | G | KKR Sigma Aggregator L.P.; Alexandros Katsiotis; KKR Sigma Aggregator L.P.
20200176 | G | Peppertree Capital Fund VIII QP, LP; AT&T Inc.; Peppertree Capital Fund VIII QP, LP.
20200177 | G | KKR Sigma Aggregator L.P.; Elli Drakopoulou; KKR Sigma Aggregator L.P.
20200178 | G | David A. Duffield; ScoutRFP, Inc.; David A. Duffield.
20200184 | G | Lee Ji-Hoon; Riverstone Global Energy and Power Fund VI, L.P.; Lee Ji-Hoon.
20200185 | G | Kim Young Gwan; Riverstone Global Energy and Power Fund VI, L.P.; Kim Young Gwan.
20200186 | G | Samtan Co., Ltd.; Riverstone Global Energy and Power Fund VI, L.P.; Samtan Co., Ltd.
20200191 | G | Roger S. Penske; Hulman & Company; Roger S. Penske.
20200194 | G | GS TruckLite Holdings, LLC; TL Lighting Holdings, LLC; GS TruckLite Holdings, LLC.
20200195 | G | Wells Fargo & Company; Golden Gate Capital Opportunity Fund, L.P.; Wells Fargo & Company.
20200196 | G | Markel Corporation; VSC Fire & Security, Inc.; Markel Corporation.
20200197 | G | Rhone Partners V L.P.; Hudson's Bay Company; Rhone Partners V L.P.
20200198 | G | Rockland PJM Partners, LP; Rockland Powers Partners III, LP; Rockland PJM Partners, LP.
20200199 | G | SBHC Holdings LLC; Strategic Behavioral Health, LLC; SBHC Holdings LLC.
20200205 | G | Clayton, Dubilier & Rice Fund X, L.P.; Anixter International Inc.; Clayton, Dubilier & Rice Fund X, L.P.
11/22/2019
20200169 | G | Gulf Pacific Power, LLC; Enel S.p.A; Gulf Pacific Power, LLC.
20200170 | G | Gulf Pacific Power, LLC; General Electric Company; Gulf Pacific Power, LLC.
20200179 | G | Dexter Goei; Patrick Drahi; Dexter Goei.
20200200 | G | Wind Point Partners IX-A L.P; Ruben & Guadalupe Gutierrez; Wind Point Partners IX-A L.P.
20200201 | G | Olympus Growth Fund VII, L.P.; Adecco Group AG; Olympus Growth Fund VII, L.P.
20200207 | G | Meritage Fund LLC; Warburg Pincus Private Equity XI, L.P.; Meritage Fund LLC.
20200208 | G | Golden Gate Capital Opportunity Fund, L.P.; The Independent Order of Foresters; Golden Gate Capital Opportunity Fund, L.P.
20200210 | G | Hg Saturn A L.P.; General Atlantic Partners (Bermuda) III, L.P.; Hg Saturn A L.P.
20200235 | G | The Medical Society of South Carolina; CareAlliance Health Services d/b/a RSFH; The Medical Society of South Carolina.
20200236 | G | Bon Secours Mercy Ministries; CareAlliance Health Services d/b/a RSFH; Bon Secours Mercy Ministries.
20200251 | G | Vista Foundation Fund III, L.P.; Sonatype, Inc.; Vista Foundation Fund III, L.P.
11/26/2019
20200221 | G | FR XIV Charlie AIV, L.P.; TriMas Corporation; FR XIV Charlie AIV, L.P.
20200231 | G | Vistria Fund II, LP; Academic Partnerships, LLC; Vistria Fund II, LP.
20200243 | G | Mode Investor, LP; Comvest Investment Partners IV, L.P.; Mode Investor, LP.
20200249 | G | Henkel AG & Co. KGaA; Ares Corporate Opportunities Fund IV, L.P; Henkel AG & Co. KGaA.
11/29/2019
20192077 | G | Outotec Oyj; Metso Corporation; Outotec Oyj.
20200168 | G | Platinum Equity Capital Partners International V (Cayman),; Cision Ltd.; Platinum Equity Capital Partners International V (Cayman).
20200193 | G | Amgen Inc.; BeiGene, ltd.; Amgen Inc.
20200220 | G | Harvest Partners VIII, L.P.; Greenbriar Equity Fund III, L.P.; Harvest Partners VIII, L.P.
20200222 | G | Harvest Partners VIII (Parallel), L.P.; Greenbriar Equity Fund III, L.P.; Harvest Partners VIII (Parallel), L.P.
20200233 | G | Olympus Growth Fund VII, L.P.; John J. Burns, Jr. Marital A Trust; Olympus Growth Fund VII, L.P.
20200237 | G | Gemspring Capital Fund I, LP; Stargazer Founders, Inc.; Gemspring Capital Fund I, LP.
20200248 | G | Gryphon Partners V, L.P.; Tyree & D' Angelo Partners Fund I LP; Gryphon Partners V, L.P.

FOR FURTHER INFORMATION CONTACT: Theresa Kingsberry (202-326-3100), Program Support Specialist, Federal Trade Commission Premerger Notification Office, Bureau of Competition, Room CC-5301, Washington, DC 20024.

By direction of the Commission.
April Tabor,
Acting Secretary.

[FR Doc. 2020-00894 Filed 1-21-20; 8:45 am]

BILLING CODE 6750-01-P